DEPARTMENT OF THE INTERIOR

Bureau of Land Management

[LLORV00000.L10200000.DF0000.LXSSH1050000.17X.HAG 17-0089]

Notice of Public Meeting; Southeast Oregon Resource Advisory Council

AGENCY: Bureau of Land Management, Interior.

ACTION: Notice.

SUMMARY: In accordance with the Federal Land Policy and Management Act and the Federal Advisory Committee Act of 1972, the U.S. Department of the Interior, Bureau of Land Management's (BLM), Southeast Oregon Resource Advisory Council (RAC) will meet as indicated below.

DATES: The Southeast Oregon RAC meeting will be held on Monday, April 10, 2017, and Tuesday, April 11, 2017 in Ontario, OR. The meeting on April 10, 2017, will consist of a field trip to view the Soda Fire burn area beginning at 8 a.m. and ending at 5 p.m. The April 11, 2017 meeting will begin at 8 a.m. and end at 12 p.m. (times are Mountain Time).

ADDRESSES: The meeting will be held at the Clarion Inn, 1249 Tapadera Ave, Ontario, OR 97914. The telephone conference line number for the April 11, 2017, meeting is 1-866-524-6456, Participant Code: 608605.

FOR FURTHER INFORMATION CONTACT: Larisa Bogardus, Public Affairs Officer, by mail at BLM Lakeview District Office, 1301 S G Street, Lakeview, Oregon 97630; by telephone at (541) 947-6237; or be email at lbogardus@blm.gov. Persons who use a telecommunications device for the deaf (TDD) may call the Federal Relay Service (FRS) at 1 (800) 877-8339 to contact the above individual during normal business hours. The FRS is available 24 hours a day, 7 days a week, to leave a message or question with the above individual. You will receive a reply during normal business hours.

SUPPLEMENTARY INFORMATION: The Southeast Oregon RAC consists of 15 members appointed by the Secretary of the Interior. Their diverse perspectives are represented in commodity, conservation, and general interests. They provide advice to BLM and U.S. Forest Service resource managers regarding management plans and proposed resource actions on public land in southeast Oregon. This meeting is open to the public in its entirety. The agenda will be released online at https://www.blm.gov/site-page/get-involved-resource-advisory-council-near-you-oregon-washington-southeast-oregon-rac prior to April 3, 2017. Agenda items for the meeting include: Discussion and impressions from the field trip; an update and possible recommendations from the Lands with Wilderness Characteristics subcommittee; an update from the Tri-State Fuels Break subcommittee; and an update on the Sage Grouse Causal Factors Analysis process. Any other matters that may reasonably come before the Southeast Oregon RAC may also be addressed.

A public comment period will be available from 11 a.m. to 11:30 a.m. during the April 11, 2017, meeting. Unless otherwise approved by the Southeast Oregon RAC Chair, the public comment period will last no longer than 30 minutes, and each speaker may address the Southeast Oregon RAC for a maximum of 5 minutes. Meeting times and the duration of the public comment periods may be extended or altered when the authorized representative considers it necessary to accommodate necessary business and all who seek to be heard regarding matters before the Southeast Oregon RAC.

Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Donald Gonzalez,
Vale District Manager.

[FR Doc. 2017-05869 Filed 3-23-17; 8:45 am]

BILLING CODE 4310-33-P